SMALL BUSINESS ADMINISTRATION

[License No. 06/06-0326]

Main Street Mezzanine Fund, L.P.; Notice Seeking Exemption Under Section 312 of the Small Business Investment Act, Conflicts of Interest

Notice is hereby given that Main Street Mezzanine Fund, L.P., 1300 Post Oak Boulevard, Suite 800, Houston TX, 77056, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). Main Street Mezzanine Fund, L.P.proposes to provide loan financing to LKCM Distribution Holdings, LLC, 301 Commerce Street, Suite 1600, Fort Worth, Texas 76102 (“LKCM”).

The financing is brought within the purview of § 107.730(a)(l) of the Regulations because a director of Main Street Capital Corporation, the Parent of Main Street Mezzanine Fund, L.P.is also a director of LKCM. The financing is also brought within the purview of § 107.730(a)(4) of the Regulations because LKCM is going to use the proceeds to purchase the assets of Thermal & Mechanical Equipment Company, LLC, 1423 E. Richey Road, Houston, Texas 77073 (“TMEC”). Main Street Mezzanine Fund, L.P., Main Street Capital II, L.P., and Main Street Capital Corporation have outstanding loans to TMEC and Main Street Equity Interests, Inc. and Main Street Capital II Equity Interests hold equity in TMEC, all Associates of Main Street Mezzanine Fund, L.P.The proceeds from the sale of TMEC's assets will be used to discharge the loan obligations and redeem the equity interests. Therefore this transaction is considered a financing constituting a conflict of interest requiring prior SBA approval. ·

Notice is hereby given that any interested person may submit written comments on the transaction, within fifteen days of the date of this publication, to the Associate Administrator, Office of Investment and Innovation, U.S. Small Business Administration, 409 Third Street SW., Washington, DC 20416.

Javier Saade,
Associate Administrator, Office of Investment and Innovation.

[FR Doc. 2014-00297 Filed 1-10-14; 8:45 am]

BILLING CODE P